LIBRARY OF CONGRESS

Copyright Office

[Docket No. 2003-3]

Courier Mail

AGENCY: Copyright Office, Library of Congress.

ACTION: New procedure for courier deliveries.

SUMMARY: The Copyright Office is announcing the implementation of new procedures for deliveries made by non-government, in-person, commercial couriers or messengers. These procedures do not apply to deliveries made by U.S. government representatives or those made by large commercial carriers such as Federal Express or United Parcel Service.

EFFECTIVE DATE: December 29, 2003.

FOR FURTHER INFORMATION CONTACT: Melissa Dadant, Chief, Receiving and Processing Division. Telephone: (202) 707-7700. Telefax: (202) 707-1899. Tanya M. Sandros, Senior Attorney. Telephone: (202) 707-8380. Telefax: (202) 707-8366.

SUPPLEMENTARY INFORMATION: Beginning on December 29, 2003, the Library of Congress will no longer accept on site deliveries from non-governmental, in-person, commercial couriers or messengers. Instead, couriers must deliver materials for staff at the Library of Congress, including deliveries to Copyright Office employees, directly to the Congressional Courier Acceptance Site (“CCAS”), located on 2nd and D Streets, NE. The CCAS will accept items from couriers with proper identification, e.g., a valid driver's license, Monday through Friday between 8:30 a.m. and 4 p.m. Short-term parking for both cars and bikes is available at the site. The date of receipt at the CCAS will be considered as the date materials would have been received at the Copyright Office but for the change in the Library's policy for accepting courier mail.

A courier may make a delivery of up to ten items to the CCAS at any one time. When a courier makes a delivery to the acceptance site, each item will be logged-in, noting date and time, x-rayed and screened for hazardous materials and substances. Packages no larger than 4″ × 14″ × 18″ will be accepted at the CCAS for processing on site. Larger packages delivered to the CCAS will be redirected to the Library of Congress' off-site mail processing center for inspection. Items will not be presorted and redirected based on their weight.

Expected deliveries from a source known to the recipient that arrive at the CCAS before 10 a.m. will be inspected and delivered to the appropriate office in the Library of Congress by the end of the day. All other deliveries will be delivered generally during the morning of the next business day. Expected deliveries are those which have been requested by a staff member of the Library from a sender known to the Library or a staff member, and which are delivered by an employee of a known organization, i.e., one that is known by the Library and routinely conducts business with its staff, or by a courier company on its behalf.

These procedures do not apply to normal mail deliveries or deliveries from large commercial carriers such as Federal Express or United Parcel Service (“UPS”). Deliveries from these carriers will continue to be processed at the off-site mail facility.

Dated: December 12, 2003.
Marybeth Peters,
Register of Copyrights.

[FR Doc. 03-31125 Filed 12-15-03; 8:45 am]

BILLING CODE 1410-30-P